DEPARTMENT OF LABOR

Employment and Training Administration

[TA-W-63,052]

Chrysler LLC; St. Louis North Assembly Plant, Including On-Site Leased Workers From HAAS TCM, Inc., Logistics Services, Inc., Robinson Solutions, and Yazaki North America; Fenton, MO; Amended Certification Regarding Eligibility To Apply for Worker Adjustment Assistance and Alternative Trade Adjustment Assistance

In accordance with Section 223 of the Trade Act of 1974 (19 U.S.C. 2273), and section 246 of the Trade Act of 1974 (26 U.S.C. 2813), as amended, the Department of Labor issued a Certification of Eligibility to Apply for Worker Adjustment Assistance and Alternative Trade Adjustment Assistance on April 14, 2008, applicable to workers of Chrysler LLC, St. Louis North Assembly Plant, Fenton, Missouri. The notice was published in the Federal Register on May 2, 2008 (73 FR 24317). The certification was amended on November 18, 2009 and December 9, 2009 to include on-site leased workers from HAAS TCM, Inc. and Logistics Services, Inc. The notices were published in the Federal Register on December 1, 2008 (73 FR 72848) and December 18, 2008 (73 FR 77069) respectively. It was amended again on October 30, 2009 to include on-site leased workers from Robinson Solutions, and again March 31, 2010 to include Logistics Management Services, and on April 20, 2010 to include Corrigan Company and Murphy Company. The notices were published in the Federal Register on November 12, 2009 (74 FR 58316), April 19, 2010 (75 FR 203832-20383), and April 29, 2010 (75 FR 22627-22628) respectively.

At the request of the State Agency, the Department reviewed the certification for workers of the subject firm. The workers assemble Dodge Ram full-sized pickup trucks.

New information shows that workers leased from Yazaki North America were employed on-site at the Fenton, Missouri location of Chrysler LLC, St. Louis North Assembly Plant. The Department has determined that these workers were sufficiently under the control of Chrysler LLC, St. Louis North Assembly Plant to be considered leased workers.

Based on these findings, the Department is amending this certification to include workers leased from Yazaki North America working on-site at the Fenton, Missouri location of the subject firm.

The intent of the Department's certification is to include all workers employed at Chrysler LLC, St. Louis North Assembly Plant, Fenton, Missouri who were adversely affected by increased imports of Dodge Ram full-sized pickup trucks.

The amended notice applicable to TA-W-63,052 is hereby issued as follows:

All workers of Chrysler LLC, St. Louis North Assembly Plant, including on-site leased workers from HAAS TCM, Inc., Logistics Services, Inc., Robinson Solutions, Logistics Management Services, Corrigan Company, Murphy Company and Yazaki North America, Fenton, Missouri, who became totally or partially separated from employment on or after March 18, 2007, through April 14, 2010, are eligible to apply for adjustment assistance under Section 223 of the Trade Act of 1974, and are also eligible to apply for alternative trade adjustment assistance under Section 246 of the Trade Act of 1974.

Signed at Washington, DC this 12th day of May 2010.
Del Min Amy Chen,
Certifying Officer, Division of Trade Adjustment Assistance.

[FR Doc. 2010-12252 Filed 5-20-10; 8:45 am]

BILLING CODE 4510-FN-P